DEPARTMENT OF EDUCATION

Office of Special Education and Rehabilitative Services; List of Correspondence

AGENCY: Department of Education.

ACTION: List of correspondence from January 2, 2007 through March 31, 2007.

SUMMARY: The Secretary is publishing the following list pursuant to section 607(f) of the Individuals with Disabilities Education Act, as amended by the Individuals with Disabilities Education Improvement Act of 2004 (IDEA). Under section 607(f) of IDEA, the Secretary is required, on a quarterly basis, to publish in the Federal Register a list of correspondence from the U.S. Department of Education (Department) received by individuals during the previous quarter that describes the interpretations of the Department of IDEA or the regulations that implement IDEA.

FOR FURTHER INFORMATION CONTACT: Melisande Lee or JoLeta Reynolds. Telephone: (202) 245-7468.

If you use a telecommunications device for the deaf (TDD), you may call the Federal Relay Service (FRS) at 1-800-877-8339.

Individuals with disabilities may obtain a copy of this notice in an alternative format (e.g., Braille, large print, audiotape, or computer diskette) on request to the contact persons listed under FOR FURTHER INFORMATION CONTACT.

SUPPLEMENTARY INFORMATION: The following list identifies correspondence from the Department issued from January 2, 2007 through March 31, 2007. Included on the list are those letters that contain interpretations of the requirements of IDEA and its implementing regulations, as well as letters and other documents that the Department believes will assist the public in understanding the requirements of the law and its regulations. The date of and topic addressed by a letter are identified, and summary information is also provided, as appropriate. To protect the privacy interests of the individual or individuals involved, personally identifiable information has been deleted, as appropriate.

Part A—General Provisions

Section 602—Definitions

Topic Addressed: Child With a Disability.

○ Letter dated March 8, 2007 to American Speech-Language-Hearing Association Director Catherine D. Clark, regarding criteria for determining whether a speech or language impairment adversely affects a child's educational performance, how public agencies may respond when speech/language pathology sessions are missed due to the student's absence or the provider's absence, and an explanation of the requirements governing the continuum of alternative placements.

Part B—Assistance for Education of All Children With Disabilities

Section 612—State Eligibility

Topic Addressed: Methods of Ensuring Services.

○ Letter dated January 23, 2007 to Volusia County, Florida Superintendent of Schools Margaret A. Smith, and letter dated February 9, 2007 to Houston, Texas Independent School District Staff Member Carolyn Guess, clarifying requirements for obtaining parental consent when a public agency seeks access to a child's public benefits or public insurance to pay for required special education and related services for Medicaid-eligible children.

○ Letter dated March 8, 2007 to Indiana Department of Education Governmental Affairs Committee Chairman John D. Hill, clarifying requirements for obtaining parental consent when a public agency seeks access to a child's public benefits or public insurance to pay for required special education and related services for Medicaid-eligible children and explaining that the local educational agency (LEA) does not have to obtain a separate parental consent if parental consent is given directly to another agency, such as a State's Medicaid Agency.

Topic Addressed: Children With Disabilities Enrolled by Their Parents in Private Schools.

○ Letter dated March 9, 2007 to Massachusetts Department of Education State Director of Special Education Marsha Mittnacht, regarding parentally-placed children with disabilities who reside out-of-State and attend private schools located in school districts in Massachusetts.

○ Letter dated March 23, 2007 to Association of Educational Service Agencies Executive Director Brian L. Talbot and letter dated March 23, 2007 to Association of Educational Services Agencies President Lee Warne, regarding the role of sending and receiving LEAs in completing child find activities and implementing equitable services for children with disabilities enrolled by their parents in private schools.

Topic Addressed: Access to Instructional Materials.

○ Letter dated March 16, 2007 to Recording for the Blind and Dyslexic President and CEO John Kelly, regarding the benefits of giving all qualified accessible media producers anticipatory access to the National Instructional Materials Accessibility Standard files sets deposited at the National Instructional Materials Access Center.

Section 614—Evaluations, Eligibility Determinations, Individualized Education Programs, and Educational Placements

Topic Addressed: Evaluations and Reevaluations.

○ Letter dated February 6, 2007 to individual (personally identifiable information redacted), regarding the relationship of the requirements for review of existing evaluation data to the requirements for reevaluation.

○ Letter dated March 1, 2007 to Harcourt Assessment Inc. Publisher Aurelio Prifitera, responding to Harcourt Assessment's overview of the requirements in the final regulations for Part B of IDEA for evaluating children suspected of having specific learning disabilities.

○ Letter dated March 6, 2007 to Wyoming Protection and Advocacy for Individual Rights Program Attorney Buck Gwyn, regarding State criteria for determining whether a child has a specific learning disability.

○ Letter dated March 6, 2007 to Lehigh University Professor Perry A. Zirkel, regarding new requirements in the final regulations for Part B of IDEA that govern whether States may use the severe discrepancy model and clarifying the role of response to intervention in determining whether a child has a specific learning disability.

Section 615—Procedural Safeguards

Topic Addressed: Maintenance of Current Educational Placement.

○ Letter dated February 2, 2007 to Pennsylvania Department of Education Staff Member Gerald L. Zahorchak, regarding the child's status during the pendency of administrative or judicial proceedings when a child who is no longer eligible for services under Part C of IDEA seeks initial services under Part B of IDEA.

Topic Addressed: Discipline Procedures.

○ Letter dated March 8, 2007 to University of Utah Professor Dixie Snow Huefner, regarding when a parent or an LEA may request an expedited due process hearing and the child's placement during an appeal.

○ Letter dated February 9, 2007 to Washoe County, Nevada Assistant Superintendent Dr. Kris Christiansen, regarding whether a functional behavioral assessment (FBA) triggers the procedural safeguards applicable to an evaluation or an independent educational evaluation and whether parent consent is required prior to conducting an FBA.

Part C

Infants and Toddlers With Disabilities

Section 643—Allocation of Funds

Topic Addressed: State Allocation Formula.

○ Letter dated March 6, 2007 to Texas Governor Rick Perry, clarifying that allocations to each State under Part C of IDEA are made based on the ratio of the number of infants and toddlers in that State to the number of infants and toddlers in all States and that the calculations are based on the most recent data available from the Census Bureau. The Department cannot make adjustments in the formula allocations to States based on data provided by an individual State.

Other Letters that Do Not Interpret the Idea but May Be of Interest to Readers

Topic Addressed: Assessment and Accountability.

○ Letter dated February 7, 2007 to Chief State School Officers regarding the assessment and accountability requirements of Title I and extending flexibility for determining annual yearly progress for the students with disabilities subgroup.

Topic Addressed: Transition to Postsecondary Education.

○ Letters dated March 16, 2007 to Dear Colleague and Dear Parent from Office for Civil Rights Assistant Secretary Stephanie Monroe, regarding the legal rights and responsibilities of students with disabilities as they transition from secondary to postsecondary education settings.

Electronic Access To This Document

You may view this document, as well as all other Department of Education documents published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.027, Assistance to States for Education of Children with Disabilities).

Dated: July 31, 2007.
John H. Hager,
Assistant Secretary for Special Education and Rehabilitative Services.

[FR Doc. E7-15226 Filed 8-3-07; 8:45 am]

BILLING CODE 4000-01-P